DEPARTMENT OF DEFENSE

Office of the Secretary

[Docket ID DoD-2020-OS-0072]

Proposed Collection; Comment Request

AGENCY: Defense Counterintelligence and Security Agency (DCSA), DoD.

ACTION: Information collection notice.

SUMMARY: In compliance with the Paperwork Reduction Act of 1995, the Defense Counterintelligence and Security Agency announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 13, 2020.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Counterintelligence and Security Agency, ATTN: Ms. Michele DeMarion, 1137 Branchton Road, Boyers, PA 16018, or call 724-794-5612 ext. 5274.

SUPPLEMENTARY INFORMATION:

Title; Associated Form; and OMB Number: Standard Form 87 Fingerprint Charts; SF 87; OMB Control Number 0705-0002.

Needs and Uses: The SF 87 is a fingerprint card, which is utilized to conduct a national criminal history check, which is a component of the background investigation. The SF 87 is completed by applicants who are under consideration for Federal employment; by Federal employees, to determine whether they should be retained in such employment; by individuals being considered to perform work for the Federal Government under a Government contract or to continue such work; and by persons seeking long-term access to Federal facilities and systems. The SF 87 fingerprint chart is used in background investigations to help establish facts required to determine, for example, whether the subject of the investigation should be adjudicated to be eligible for logical and physical access to Government facilities and systems; suitable or fit for Federal employment; fit to perform work on behalf of the Federal Government under a Government contract; eligible to hold a position that is sensitive for national security reasons; or eligible for access to classified information. The SF 87 form is utilized only when a hardcopy fingerprint chart must be obtained, as opposed to the electronic collection of fingerprints.

Affected Public: Individuals or Households.

Annual Burden Hours: 4,317.

Number of Respondents: 51,800.

Responses per Respondent: 1.

Annual Responses: 51,800.

Average Burden per Response: 5 minutes.

Frequency: On occasion.

Dated: September 8, 2020.
Aaron T. Siegel,
Alternate OSD Federal Register Liaison Officer, Department of Defense.

[FR Doc. 2020-20146 Filed 9-11-20; 8:45 am]

BILLING CODE 5001-06-P